DEPARTMENT OF COMMERCE

Foreign-Trade Zones Board

[B-62-2018]

Foreign-Trade Zone (FTZ) 294—Western Kentucky; Authorization of Production Activity; Mayfield Consumer Products; (Candles); Mayfield and Hickory, Kentucky

On October 10, 2018, the Paducah McCracken County Riverport Authority, grantee of FTZ 294, submitted a notification of proposed production activity to the FTZ Board on behalf of Mayfield Consumer Products, within Subzone 294A, in Mayfield and Hickory, Kentucky.

The notification was processed in accordance with the regulations of the FTZ Board (15 CFR part 400), including notice in the Federal Register inviting public comment (83 FR 52383, October 17, 2018). On March 19, 2019, the applicant was notified of the FTZ Board's decision that no further review of the activity is warranted at this time. The production activity described in the notification was authorized, subject to the FTZ Act and the FTZ Board's regulations, including Section 400.14.

Dated: March 19, 2019.
Andrew McGilvray,
Executive Secretary.

[FR Doc. 2019-05519 Filed 3-21-19; 8:45 am]

BILLING CODE 3510-DS-P